DEPARTMENT OF ENERGY

Office of Fossil Energy; National Coal Council

AGENCY: Department of Energy.

ACTION: Notice of open meeting.

SUMMARY: This notice announces a meeting of the National Coal Council. Federal Advisory Committee Act (Pub. L. 92-483, 86 Stat. 770) requires notice of these meetings be announced in the Federal Register.

DATES: Wednesday, November 29, 2006, 9 a.m. to 12 Noon.

ADDRESSES: Fairmont Hotel, 2401 M Street, Washington, DC.

FOR FURTHER INFORMATION CONTACT: Mr. Robert Kane, Phone: (202) 586-4753, or Ms. Estelle W. Hebron, Phone: (202) 586-6837, U.S. Department of Energy, Office of Fossil Energy, Washington, DC 20585.

SUPPLEMENTARY INFORMATION: Purpose of the Committee: The purpose of the National Coal Council is to provide advice, information, and recommendations to the Secretary of Energy on matters relating to coal and coal industry issues:

Tentative Agenda

• Call to Order by Ms. Georgia Nelson, Chair.

• Remarks by The Honorable Samuel W. Bodman, Secretary of Energy.

• Council Business.

Status Report on New Study—Mr. Mike McCall, Study Group Chair.

Finance Committee Report—Mr. Richard Eimer, Chair.

Education Committee Report—Ms. Barbara Altizer, Chair.

Communications Committee Report—Mr. David Surber, Chair.

• Presentation of Guest Speaker—Mr. Kenneth J. Nemeth, Southern States Energy Board.

• Presentation of Guest Speaker—Mr. Michael Mudd, Electric Power Electric Institute.

• Presentation of Guest Speaker—(TBD)—Association of American Railroads.

• Presentation of Guest Speaker—Mr. Kraig R. Naasz, President and CEO, National Mining Association.

• Other Business.

• Adjourn.

Public Participation: The meeting is open to the public. The Chair of the NCC will conduct the meeting to facilitate orderly business. If you would like to file a written statement with the Committee, you may do so either before or after the meeting. If you would like to make oral statements regarding any of the items on the agenda, you should contact Mr. Robert Kane or Ms. Estelle Hebron at the address and telephone number listed above. You must make your request for an oral statement at lease five business days prior to the meeting, and reasonable provisions will be made to include the presentation on the agenda. Public comment will follow the 10 minute rule.

Minutes: The minutes will be available for public review and copying within 30 days at the Freedom Information Public Reading Room, 1E-190, Forrestal Building, 1000 Independence Avenue, SW., Washington, DC, between 9 a.m. and 4 p.m., Monday through Friday, except Federal holidays.

Issued in Washington, DC, on November 2, 2006.
Rachel M. Samuel,
Deputy Advisory Committee Management Officer.

[FR Doc. E6-18752 Filed 11-6-06; 8:45 am]

BILLING CODE 6450-01-P